SOCIAL SECURITY ADMINISTRATION

Privacy Act of 1974, as Amended; Proposed System of Records and Routine Use Disclosures

AGENCY: Social Security Administration (SSA).

ACTION: Proposed System of Records and Routine Uses.

SUMMARY: In accordance with the Privacy Act (5 U.S.C. 552a(e)(4) and (e)(11)), we are issuing public notice of our intent to establish a new system of records and routine uses applicable to this system of records entitled, the Administrative Law Judge/Public Alleged Misconduct Complaints System, 60-0356 (the ALJ/PAMC system of records). We will use the information covered by the system of records to manage and monitor complaints filed against Administrative Law Judges (ALJ). We discuss the system of records and routine use disclosures in the Supplementary Information section below. We invite public comments on this proposal.

DATES: We filed a report of the ALJ/PAMC system of records and routine use disclosures with the Chairman of the Senate Committee on Homeland Security and Governmental Affairs, the Chairman of the House Committee on Oversight and Government Reform, and the Administrator, Office of Information and Regulatory Affairs, Office of Management and Budget (OMB) on February 12, 2010. The ALJ/PAMC system of records and routine uses will become effective on March 14, 2010, unless we receive comments before that date that would result in a contrary determination.

ADDRESSES: Interested persons may comment on this publication by writing to the Executive Director, Office of Privacy and Disclosure, Office of the General Counsel, Social Security Administration, Room 3-A-6 Operations Building, 6401 Security Boulevard, Baltimore, Maryland 21235-6401. All comments we receive will be available for public inspection at the above address.

FOR FURTHER INFORMATION CONTACT: Earlene Whitworth Hill, Social Insurance Specialist, Disclosure Policy Development and Services Division I, Office of Privacy and Disclosure, Office of the General Counsel, Social Security Administration, Room 3-A-6 Operations Building, 6401 Security Boulevard, Baltimore, Maryland 21235-6401, telephone: (410) 965-1817, e-mail: earlene.whitworth.hill@ssa.gov.

SUPPLEMENTARY INFORMATION:

I. Background and Purpose of the ALJ/PAMC System of Records

A. General Background

Our Office of Disability Adjudication and Review (ODAR) includes a nationwide field organization staffed with ALJs who conduct impartial hearings and make decisions on appeals filed by claimants and their advocates or representatives on their behalf. Claimants and their advocates or representatives may file a complaint against an ALJ if they believe the ALJ was biased or engaged in improper conduct. Persons may make complaints in writing to our Office of the Chief Administrative Law Judge and to our regional and hearing offices. We also receive complaints through our Appeals Council, agents at our National 800 Telephone Number Network, our Office of the Inspector General Hotline, and congressional offices on behalf of their constituents. We review, investigate, and respond to such complaints.

At present, we do not have a good mechanism to track complaints about ALJs from initiation to resolution. This weakness makes it difficult for us to identify and resolve service delivery issues, and also impairs customer service. This system of records will help us improve service to the public by creating a centrally managed, electronic method to collect, monitor, and retrieve information concerning complaints about ALJs.

The ALJ/PAMC system of records will:

• Provide us with information to manage and respond to complaints, which in turn will help us monitor and improve customer service and reduce manual work;

• Provide us with information to process, review, or investigate complaints filed;

• Provide us with information related to the complaint, including the name of the claimant and other identifying information, the name of the claimant's advocate or representative, if any, and information about the ALJ who allegedly committed misconduct; and

• Provide us with management information to document, monitor, and track complaints about ALJs, to identify patterns of improper ALJ behavior that may require further review and action, and to assist us in deterring recurring incidences of ALJ bias or misconduct.

B. Collection and Maintenance of the Data for the ALJ/PAMC System of Records

We will collect and maintain information from complaints filed against ALJs in an electronic system covered by the ALJ/PAMC system of records. We will collect information relating to the complaint, case analyses, results of the review or investigation, location of the hearing or regional office, ALJ duty station, Federal court if the complaint is raised at the Federal court level, and copies of relevant correspondence.

We will collect information about the claimant (or claimant's advocate or representative) filing the complaint such as name, Social Security number (SSN), date of birth, address, gender, race or ethnic background (if readily available), and relevant claims-related information. We will also collect information about the ALJ named in the complaint, such as name, ALJ assigned number, and tracking and control log numbers.

Since we will retrieve information from this system using names and other personal identifiers, the ALJ/PAMC information collection is a system of records, as defined by the Privacy Act.

II. Routine Use Disclosures of Data Covered by the ALJ/PAMC System of Records

A. Routine Use Disclosures

We propose to establish the following routine uses of information that will be covered by the ALJ/PAMC system of records.

1. To the Office of the President in response to an inquiry from that office made at the request of the subject of the record or a third party on that person's behalf.

We will disclose information under this routine use only when the Office of the President makes an inquiry relating to information contained in this system of records and indicates that it is acting on behalf of the person whose record is requested (e.g., ALJ, claimant, claimant's advocate or representative, if any).

2. To a congressional office in response to an inquiry from that office made at the request of the subject of a record or a third party on that person's behalf.

We will disclose information under this routine use only when a member of Congress, or member of his or her staff, makes an inquiry relating to information contained in this system of records and indicates that he or she is acting on behalf of the person whose record is requested.

3. To the Department of Justice (DOJ), a court, other tribunal, or another party before such court or tribunal when:

(a) The agency or any of our components; or

(b) Any agency employee in his or her official capacity; or

(c) Any agency employee in his or her individual capacity when DOJ (or the agency when we are authorized to do so) has agreed to represent the employee; or

(d) The United States or any agency thereof when we determine that the litigation is likely to affect our operations or any of our components, is party to litigation or has an interest in such litigation, and we determine that the use of such records by DOJ, a court, other tribunal, or another party before such court or tribunal is relevant and necessary to the litigation. In each case, however, we must determine that such disclosure is compatible with the purpose for which we collected the records.

We will disclose information under this routine use as necessary to enable DOJ to effectively defend us, our components, or our employees in litigation, when the use of information covered by this system of records is relevant and necessary to the litigation and compatible with the purpose of the information collection. We will also disclose information to ensure that courts, other tribunals, and parties before such courts or tribunals, have appropriate information when relevant and necessary.

4. To student volunteers, persons working under a personal services contract, and others who are not technically Federal employees, when they are performing work for us as authorized by law, and they need access to information in our records in order to perform their assigned agency duties.

We will disclose information under this routine use only when we use the services of student volunteers and participants in certain educational, training, employment, and community service programs when they need access to information covered by this system of records to perform their assigned agency duties.

5. To the Equal Employment Opportunity Commission (EEOC) when they request information in connection with an investigation into alleged or possible discriminatory practices in the Federal sector, examination of Federal affirmative employment programs, compliance by Federal agencies with the Uniform Guidelines on Employee Selection Procedures, or other functions vested in the Commission.

We will disclose information about our employees under this routine use to the EEOC, as necessary, to assist in reassessing requests for reasonable accommodations; to assist in investigations into alleged or possible discriminatory practices in the Federal sector; to combat and prevent fraud, waste, and abuse under the Rehabilitation Act of 1973; and to assist the Commission in carrying out its other functions.

6. To the Federal Labor Relations Authority, the General Counsel, the Federal Mediation and Conciliation Service, the Federal Service Impasses Panel, or an arbitrator when they request information in connection with investigations of allegations of unfair practices or of other matters before an arbitrator or the Federal Service Impasses Panel.

We will disclose information about our employees under this routine use, as necessary, to the Federal Labor Relations Authority, the General Counsel, the Federal Mediation and Conciliation Service, the Federal Service Impasses Panel, or an arbitrator, when all or part of the allegations involve the information covered by the ALJ/PAMC system of records.

7. To the Office of Personnel Management, the Merit Systems Protection Board, or the Office of Special Counsel when they request information in connection with appeals, special studies of the civil service and other merit systems, review of those agencies' rules and regulations, investigation of alleged or possible prohibited personnel practices, and for other such functions of these agencies as may be authorized by law.

We will disclose information about our employees under this routine use, as necessary, to the Office of Personnel Management, the Merit Systems Protection Board, or to the Office of Special Counsel, when all or part of the allegations in the appeal or action involve the information covered by the ALJ/PAMC system of records.

8. To Federal, State, and local law enforcement agencies and private security contractors, as appropriate, information necessary:

a. To enable them to ensure the safety of our employees and customers, the security of our workplace, and the operation of our facilities; or

b. To assist investigations or prosecutions with respect to activities that affect such safety, security, or activities that disrupt the operation of our facilities.

We will disclose information under this routine use to law enforcement agencies and private security contractors when they need information to respond to, investigate, or prevent activities that jeopardize the security and safety of the public, employees, or our workplaces, or that otherwise disrupt the operation of our facilities. We will disclose information to assist in prosecuting persons charged with violating a Federal, State, or local law in connection with such activities.

9. To contractors and other Federal agencies, as necessary, to assist us in efficiently administering our programs.

We will disclose information under this routine use only in situations where we enter into a contractual agreement or similar agreement with a third party to assist in accomplishing an agency function relating to information covered by the ALJ/PAMC system of records.

10. To the appropriate Federal, State, and local agencies, entities, and persons when: (1) We suspect or confirm that the security or confidentiality of information in this system of records has been compromised; (2) we determine that as a result of the suspected or confirmed compromise there is a risk of harm to economic or property interests, risk of identity theft or fraud, or harm to the security or integrity of this system or our other systems or programs that rely upon the compromised information; and (3) we determine that disclosing the information to such agencies, entities, and persons is necessary to assist in our efforts to respond to the suspected or confirmed compromise and prevent, minimize, or remedy such harm. We will use this routine use to respond only to those incidents involving an unintentional release of our records.

We will disclose information under this routine use specifically in connection with response and remediation efforts in the event of an unintentional release of agency information, otherwise known as a “data security breach.” This routine use will protect the interests of the people whose information is at risk by allowing us to take appropriate steps to facilitate a timely and effective response to a data breach. The routine use will also help us improve our ability to prevent, minimize, or remedy any harm that may result from a compromise of data covered by this system of records.

11. To a Federal, State, and local professional licensing board, at our initiative or at the request of the licensing board, when such records indicate a violation of ethical conduct by a current or former employee who is seeking to be licensed or is licensed before the professional board.

We will disclose information under this routine use to a Federal, State, or local licensing board, at our initiative, or at the request of the licensing board, regarding the facts surrounding a potential ethical violation by a current or former employee who is licensed or seeking to be licensed before a professional board.

12. To a Federal or State agency in response to its request, or at our initiative, in connection with decisions to hire an employee, issue a security clearance, conduct a security or suitability investigation of a person, classify a job, award a contract, or regarding the requesting agency's decision to issue a license, grant, or other benefit. We may disclose for lawful statutory administrative or investigative purposes to the extent that the information is relevant and necessary to the requesting agency's decision.

We will disclose information in response to a request, or at our initiative, in connection with any of the circumstances specified in the routine use above. The request pertaining to such circumstances must meet lawful statutory administrative or investigative purposes and be consistent with our authority for maintaining the record.

13. To officials of labor organizations recognized under 5 U.S.C. chapter 71, when relevant and necessary to their duties of exclusive representation concerning personnel policies, practices, and matters affecting conditions of employment.

We will disclose information about our employees under this routine use, to the officials above as necessary, when all or part of the information requested involves information covered by the ALJ/PAMC system of records.

14. To the General Services Administration (GSA) and the National Archives and Records Administration (NARA) under 44 U.S.C. 2904 and 2906, as amended by the NARA Act, information that is not restricted from disclosure by Federal law, for their use in conducting records management studies.

We will disclose information under this routine use only when it is necessary for GSA and NARA to have access to the information covered by this system of records. The Administrator of GSA and the Archivist of NARA are authorized by Title 44 U.S.C. 2904, as amended, to promulgate standards, procedures, and guidelines regarding records management and to conduct records management studies. Title 44 U.S.C. 2906, as amended, provides that GSA and NARA are authorized to inspect Federal agencies' records for records management purposes and that agencies are to cooperate with GSA and NARA.

B. Compatibility of Routine Uses

We can disclose information when the disclosure is required by law (20 CFR 401.120). We can also disclose information when the purpose is compatible with the purpose for which we collect the information and the disclosure is supported by a published routine use (20 CFR 401.150). The disclosures under routine uses numbers 1 through 13 will ensure that we efficiently perform our functions relating to the purpose and administration of the ALJ/PAMC system of records. Federal law requires the disclosures that we make under routine use number 14. We will disclose information under routine use number 14 to the extent another Federal law does not prohibit the disclosure. For example, the Internal Revenue Code generally prohibits us from disclosing tax return information which we receive to maintain individual earnings records. Therefore, all routine uses are appropriate and meet the relevant statutory and regulatory criteria.

III. Records Storage Medium and Safeguards for the Information Covered by the ALJ/PAMC System of Records

We will maintain information covered by the ALJ/PAMC system of records in electronic and paper form. We will keep paper records in locked cabinets or in other secure areas. We will safeguard the security of the electronic information covered by the ALJ/PAMC system of records by requiring the use of access codes to enter the computer system that will house the data. We will permit only our authorized employees and contractors, who require the information to perform their official duties to access the information covered by the ALJ/PAMC system of records.

We annually provide all our employees and contractors with appropriate security awareness and training that includes reminders about the need to protect personally identifiable information and the criminal penalties that apply to unauthorized access to, or disclosure of, personally identifiable information. See 5 U.S.C. 552a(i)(1). Furthermore, employees and contractors with access to databases maintaining personally identifiable information must annually sign a sanction document acknowledging their accountability for inappropriately accessing or disclosing such information.

IV. Effects of the ALJ/PAMC System of Records on the Rights of Individuals

We will maintain only information that is necessary to carry out our official functions under the Social Security Act and other applicable Federal statutes in the electronic system covered by the ALJ/PAMC system of records. We will employ safeguards to protect the confidentiality of all personally identifiable information in our possession. We will adhere to the provisions of the Privacy Act and other applicable Federal statutes that govern our use and disclosure of information that is covered by the ALJ/PAMC system of records. We will disclose information under the routine uses discussed in this publication only as necessary to accomplish the stated purposes. Therefore, we do not anticipate that the ALJ/PAMC system of records or routine use disclosures will have any unwarranted adverse effect on the privacy or other rights of persons.

Dated: February 12, 2010.
Michael J. Astrue,
Commissioner.

SYSTEM NUMBER:

60-0356.

System name:

Administrative Law Judge/Public Alleged Misconduct Complaints (ALJ/PAMC) System.

Security classification:

None.

System location:

All SSA Office of Disability Adjudication and Review (ODAR) regional offices and the Office of the Chief Administrative Law Judge in Falls Church, Virginia.

Categories of individuals covered by the system:

Administrative Law Judges (ALJ) accused of misconduct or bias in connection with processing a claimant's case and the claimant who was the subject of the alleged misconduct or bias. If the claimant's advocate or representative files a complaint that an ALJ is biased against him or her, it may also cover a claimant's advocate or representative.

Categories of records in the system:

Information derived from complaints filed against ALJs; the information we gather in processing, reviewing, or investigating such complaints; the results of the review or investigation; case analyses; the information related to the hearing office, the regional office, and the ALJ's duty station; information related to the alleged complaint; the Federal court, if a complaint is raised at the Federal court level; and copies of relevant correspondence. The ALJ/PAMC system may contain the following information about the claimant who filed the complaint: name, Social Security number (SSN), date of birth, address, and relevant claims-related information. In addition, the ALJ/PAMC system may contain information regarding the claimant's gender and race or ethnic background, if that information is provided and is a basis for the complaint. The ALJ/PAMC system may contain information related to the claimant's advocate or representative that is derived from the complaint (e.g., name, gender, race and/or ethnic background, if provided and it is a basis for the complaint). The ALJ/PAMC system may also contain the following information about the ALJ associated with the complaint: name, ALJ assigned number, and our assigned tracking and control log numbers.

Authority for maintenance of the system:

Sections 205 and 1631(d)(1) of the Social Security Act, as amended.

Purpose(s):

We will use the information covered by the system of records to manage and monitor complaints filed against ALJs. The information will:

• Provide us with information to manage and respond to complaints, which in turn will help us monitor and improve customer service and reduce manual work;

• Provide us with information to process, review, or investigate complaints filed;

• Provide us with information related to the complaint, including the name of the claimant and other identifying information, the name of the claimant's advocate or representative, if any, and information about the ALJ who allegedly committed misconduct; and

• Provide us with management information to document, monitor, and track ALJ complaints, to identify patterns of improper ALJ behavior that may require further review and action, and to assist us in deterring recurring incidences of ALJ bias or misconduct.

Routine uses of records maintained in the system, including categories of users and the purpose of such uses:

Routine use disclosures are as indicated below.

1. To the Office of the President in response to an inquiry from that office made at the request of the subject of the record or a third party on that person's behalf.

2. To a congressional office in response to an inquiry from that office made at the request of the subject of a record or a third party on that person's behalf.

3. To the Department of Justice (DOJ), a court, other tribunal, or another party before such court or tribunal when:

(a) The agency or any of our components;

(b) Any agency employee in his or her official capacity;

(c) Any agency employee in his or her individual capacity when DOJ (or the agency when we are authorized to do so) has agreed to represent the employee; or

(d) The United States or any agency thereof when we determine that the litigation is likely to affect our operations or any of our components, is party to litigation or has an interest in such litigation, and we determine that the use of such records by DOJ, a court, other tribunal, or another party before such court or tribunal is relevant and necessary to the litigation. In each case, however, we must determine that such disclosure is compatible with the purpose for which we collected the records.

4. To student volunteers, persons working under a personal services contract, and others who are not technically Federal employees, when they need access to information in our records in order to perform their assigned agency duties.

5. To the Equal Employment Opportunity Commission (EEOC) when they request information in connection with an investigation into alleged or possible discriminatory practices in the Federal sector, examination of Federal affirmative employment programs, compliance by Federal agencies with the Uniform Guidelines on Employee Selection Procedures, or other functions vested in the Commission.

6. To the Federal Labor Relations Authority, the General Counsel, the Federal Mediation and Conciliation Service, the Federal Service Impasses Panel, or an arbitrator when information is requested in connection with investigations of allegations of unfair practices or of other matters before an arbitrator or the Federal Service Impasses Panel.

7. To the Office of Personnel Management, the Merit Systems Protection Board, or the Office of Special Counsel when they request information in connection with appeals, special studies of the civil service and other merit systems, review of those agencies' rules and regulations, investigation of alleged or possible prohibited personnel practices, and for other such functions of these agencies as may be authorized by law.

8. To Federal, State, and local law enforcement agencies and private security contractors, as appropriate, information necessary:

a. To enable them to ensure the safety of our employees and customers, the security of our workplace, and the operation of our facilities; or

b. To assist investigations or prosecutions with respect to activities that affect such safety and security or activities that disrupt the operation of our facilities.

9. To contractors and other Federal agencies, as necessary, to assist us in efficiently administering our programs.

10. To the appropriate Federal, State, and local agencies, entities, and persons when: (1) We suspect or confirm that the security or confidentiality of information in this system of records has been compromised; (2) we determine that as a result of the suspected or confirmed compromise there is a risk of harm to economic or property interests, risk of identity theft or fraud, or harm to the security or integrity of this system or our other systems or programs that rely upon the compromised information; and (3) we determine that disclosing the information to such agencies, entities, and persons is necessary to assist in our efforts to respond to the suspected or confirmed compromise and prevent, minimize, or remedy such harm. We will use this routine use to respond only to those incidents involving an unintentional release of our records.

11. To Federal, State, and local professional licensing boards, at our initiative or at the request of the licensing board, when such records indicate a violation of ethical conduct by a current or former employee who is seeking to be licensed or is licensed before the professional board.

12. To a Federal or State agency in response to its request, or at our initiation, in connection with decisions to hire an employee, issue a security clearance, conduct a security or suitability investigation of a person, classify a job, award a contract, or regarding the requesting agency's decision to issue a license, grant, or other benefit. We may disclose for lawful statutory administrative or investigative purpose to the extent that the information is relevant and necessary to the requesting agency's decision.

13. To officials of labor organizations recognized under 5 U.S.C. chapter 71 when relevant and necessary to their duties of exclusive representation concerning personnel policies, practices, and matters affecting conditions of employment.

14. To the General Services Administration and the National Archives Records Administration (NARA) under 44 U.S.C. 2904 and 2906, as amended by the NARA Act, information that is not restricted from disclosure by Federal law for their use in conducting records management studies.

Policies and practices for storing, retrieving, accessing, retaining, and disposing of records in the system:

Storage:

We will store records covered by the ALJ/PAMC system of records in electronic and paper form.

Retrievability:

We will retrieve information covered by the ALJ/PAMC system of records by:

• The name of the ALJ who is the subject of the complaint, the ALJ's assigned numerical identifier, and the hearing or regional office where the ALJ is stationed;

• The claimant's name, SSN, date of birth, address, gender, and race or ethnic background, if the information is available;

• The advocate's or representative's name, if any, and any other identifiable information pertaining to the complaint filed;

• Our assigned tracking numbers, and other complaint and claims-related information;

• The congressional office associated with the complaint, if any; and

• The Appeals Council's code.

Safeguards:

We will keep paper records in locked cabinets or in other secure areas. We will safeguard the security of the information by requiring the use of access codes to enter the computer system that will maintain the data, and will store computerized records in secure storage areas accessible only to our authorized employees and contractors who require the information to perform their official duties.

We annually provide all our employees and contractors with appropriate security awareness and training that includes reminders about the need to protect personally identifiable information and the criminal penalties that apply to unauthorized access to, or disclosure of, personally identifiable information. See 5 U.S.C. 552a(i)(1). Furthermore, employees and contractors with access to databases maintaining personally identifiable information must annually sign a sanction document, acknowledging their accountability for inappropriately accessing or disclosing such information.

Retention and disposal:

We will maintain records at all agency ODAR regional offices and the Office of the Chief Administrative Law Judge in Falls Church, Virginia. We will delete or destroy records seven years after the date of the Office of the Chief Administrative Law Judge's finding regarding the complaint, unless a special situation occurs. This seven-year requirement, which can be found in schedule N1-47-01, is consistent with the amount of time that we maintain most disability claim files.

Special Situation—The following examples are situations in which we will maintain information beyond the scheduled period for destruction:

• Fraud, waste, abuse, or misuse—We will not destroy information where we identify possible fraud, waste, abuse, or misuse or information involving investigations of fraud, waste, abuse, or misuse, until the Office of the Inspector General provides approval to dispose of such information.

• Disciplinary action—We will not destroy information related to ALJ disciplinary action until the Office of the Chief Administrative Law Judge provides approval to dispose of such information.

System manager(s) and address:

Director, Division of Quality Services, Office of the Chief Administrative Law Judge, Office of Disability Adjudication and Review, Social Security Administration, 5107 Leesburg Pike, Suite 1608, Falls Church, Virginia 22041.

Notification procedures:

Persons can determine if this system contains a record about them by writing to the system manager at the above address and providing their name, SSN, or other information in this system of records that will identify them. Persons requesting notification by mail must include a notarized statement to us to verify their identity or must certify in the request that they are the person they claim to be and that they understand that the knowing and willful request for, or acquisition of, a record pertaining to another person under false pretenses is a criminal offense.

Persons requesting notification of records in person must provide the same information, as well as provide an identity document, preferably with a photograph, such as a driver's license. Persons lacking identification documents sufficient to establish their identity must certify in writing that they are the person they claim to be and that they understand that the knowing and willful request for, or acquisition of, a record pertaining to another person under false pretenses is a criminal offense.

Persons requesting notification by telephone must verify their identity by providing identifying information that parallels the information in the record about which they are requesting notification. If we determine that the identifying information the person provides by telephone is insufficient, we will require the person to submit a request in writing or in person. If a person requests information by telephone on behalf of another person, the subject person must be on the telephone with the requesting person and us in the same phone call. We will establish the subject person's identity (his or her name, SSN, address, date of birth, and place of birth, along with one other piece of information such as mother's maiden name) and ask for his or her consent to provide information to the requesting person. These procedures are in accordance with our regulations at 20 CFR 401.40 and 401.45.

Record access procedures:

Same as notification procedures. Persons should also reasonably specify the record contents they are seeking. These procedures are in accordance with our regulations at 20 CFR 401.40(c).

Contesting record procedures:

Same as notification procedures. Persons should also reasonably identify the record, specify the information they are contesting, and state the corrective action sought and the reasons for the correction with supporting justification showing how the record is incomplete, untimely, inaccurate, or irrelevant. These procedures are in accordance with our regulations (20 CFR 401.65(a)).

Record source categories:

We obtain records covered by the ALJ/PAMC system from the:

• Complaint filed by the claimant or his or her advocate or representative, if any;

• Information we receive from a congressional office regarding a claimant and a particular ALJ;

• Documentation that we develop during our review or investigation of a complaint; and

• Appeals Council.

Exemptions claimed for the system:

None.

[FR Doc. 2010-3495 Filed 2-22-10; 8:45 am]

BILLING CODE P